FEDERAL COMMUNICATIONS COMMISSION

47 CFR Part 2

[WT Docket No. 08-166, 08-167; ET Docket No. 10-24; FCC 10-16]

Revisions to Rules Authorizing the Operation of Low Power Auxiliary Stations in the 698-806 MHz Band; Public Interest Spectrum Coalition, Petition for Rulemaking Regarding Low Power Auxiliary Stations, Including Wireless Microphones, and the Digital Television Transition

AGENCY: Federal Communications Commission.

ACTION: Correcting amendments.

SUMMARY: On January 15, 2010, the Commission released a Report and Order in the matter of “Revisions to Rules Authorizing the Operation of Low Power Auxiliary Stations in the 698-806 MHz Band; Public Interest Spectrum Coalition, Petition for Rulemaking Regarding Low Power Auxiliary Stations, including Wireless Microphones, and the Digital Television Transition.” This document contains corrections to the final regulations that appeared in the Federal Register of January 22, 2010 (75 FR 3622).

DATES: February 9, 2010.

FOR FURTHER INFORMATION CONTACT: Paul D'Ari, Wireless Telecommunications Bureau, (202) 418-1550, e-mail Paul.Dari@fcc.gov, or Hugh Van Tuyl, Office of Engineering and Technology, (202) 418-7506, e-mail Hugh.VanTuyl@fcc.gov.

SUPPLEMENTARY INFORMATION:

Background

The Federal Communications Commission published a document amending part 2 in the Federal Register of January 22, 2010 (75 FR 3622). The Commission makes the following correction to § 2.106 of the rules.

Need for Correction

As published, the final regulations contain an error, which requires immediate correction.

List of Subjects in 47 CFR Part 2

Communications equipment.

Federal Communications Commission.
Marlene H. Dortch,
Secretary.

Accordingly, 47 CFR part 2 is corrected by making the following correcting amendments:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, Table of Frequency Allocations, is amended by revising page 27 and footnote NG 159 to read as follows:

§ 2.106 Table of Frequency Allocations.

* * * * *

NON-FEDERAL GOVERNMENT (NG) FOOTNOTES

* * * * *

NG 159 In the band 698-806 MHz, stations authorized under 47 CFR part 74, subparts E, F, and G may continue to operate indefinitely on a secondary basis to all other stations operating in that band.

* * * * *

[FR Doc. 2010-2779 Filed 2-8-10; 8:45 am]

BILLING CODE 6712-01-P